DEPARTMENT OF HOMELAND SECURITY

Federal Emergency Management Agency

44 CFR Part 65

[Docket No. FEMA-B-7738]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama:
Montgomery | City of Montgomery (07-04-2575P) | August 9, 2007; August 16, 2007; The Montgomery Advertiser | The Honorable Bobby N. Bright, Mayor, City of Montgomery, P.O. Box 1111, Montgomery, AL 36101 | July 25, 2007 | 010174
Montgomery | Unincorporated areas of Montgomery County (07-04-2575P) | August 9, 2007; August 16, 2007; The Montgomery Advertiser | The Honorable Todd Strange, Chairman, Montgomery County Board of Commissioners, 100 South Lawrence Street, Montgomery, AL 36104 | July 25, 2007 | 010278
Arizona:
Pima | Town of Marana (06-09-BA80P) | July 19, 2007; July 26, 2007; Arizona Daily Star | The Honorable Ed Honea, Mayor, Town of Marana, Marana Municipal Complex, 11555 West Civic Center Drive, Marana, AZ 85653 | July 5, 2007 | 040118
Yavapai | Town of Prescott Valley (07-09-0558P) | July 19, 2007; July 26, 2007; Prescott Daily Courier | The Honorable Harvey Skoog, Mayor, Town of Prescott Valley, 7501 East Civic Circle, Prescott Valley, AZ 86314 | October 25, 2007 | 040121
Yavapai | Unincorporated areas of Yavapai County (07-09-0558P) | July 19, 2007; July 26, 2007; Prescott Daily Courier | The Honorable Chip Davis, Chairman, Yavapai County Board of Supervisors, 10 South Sixth Street, Cottonwood, AZ 86326 | October 25, 2007 | 040093
Yavapai | Unincorporated areas of Yavapai County (07-09-0736P) | July 19, 2007; July 26, 2007; Prescott Daily Courier | The Honorable Chip Davis, Chairman, Yavapai County Board of Commissioners, 10 South Sixth Street, Cottonwood, AZ 86326 | June 27, 2007 | 040093
California:
Contra Costa | City of Pittsburg (06-09-BG10P) | August 9, 2007; August 16, 2007; Contra Costa Times | The Honorable Ben Johnson, Mayor, City of Pittsburg, 65 Civic Avenue, Pittsburg, CA 94565 | November 15, 2007 | 060033
Orange | City of Huntington Beach (07-09-1170P) | August 16, 2007; August 23, 2007; Huntington Beach Independent | The Honorable Gil Coerper, Mayor, City of Huntington Beach, 2000 Main Street, Huntington Beach, CA 92648 | July 30, 2007 | 065034
Sacramento | Unincorporated areas of Sacramento County (06-09-B222P) | August 30, 2007; September 6, 2007; The Daily Recorder | The Honorable Don Nottoli, Chairman, Sacramento County Board of Supervisors, 700 H Street, Suite 2450, Sacramento, CA 95814 | December 6, 2007 | 060262
Sacramento | Unincorporated areas of Sacramento County (06-09-BF61P) | August 16, 2007; August 23, 2007; The Daily Recorder | The Honorable Don Nottoli, Chair, Sacramento County Board of Supervisors, 700 H Street, Suite 2450, Sacramento CA 95814 | November 22, 2007 | 060262
Santa Barbara | Unincorporated areas of Santa Barbara County (07-09-0164P) | July 19, 2007; July 26, 2007; Santa Barbara News-Press | The Honorable Brooks Firestone, Chairman, Santa Barbara County Board of Supervisors, 105 East Anapamu Street, Santa Barbara, CA 93101 | October 25, 2007 | 060331
Sonoma | Town of Windsor (07-09-1484X) | July 12, 2007; July 19, 2007; The Press Democrat | The Honorable Steve Allen, Mayor, Town of Windsor, P.O. Box 100, Windsor, CA 95492 | October 18, 2007 | 060761
Colorado:
Broomfield | City and County of Broomfield (07-08-0461P) | July 18, 2007; July 25, 2007; The Broomfield Enterprise | The Honorable Karen Stuart, Mayor, City and County of Broomfield, One DesCombe Drive, Broomfield, CO 80020 | June 29, 2007 | 085073
Delaware:
Kent | Unincorporated areas of Kent County (07-03-1056P) | August 22, 2007; August 29, 2007; Dover Post | The Honorable P. Brooks Banta, President, Kent County Board of Commissioners, 555 Bay Road, Dover, DE 19901 | November 28, 2007 | 100001
New Castle | Unincorporated areas of New Castle County (07-03-0823P) | July 13, 2007; July 20, 2007; Newark Post | The Honorable Chris Coons, New Castle County Executive, 87 Read's Way, New Castle, DE 19720 | October 19, 2007 | 105085
New Castle | Unincorporated areas of New Castle County (07-03-0845P) | August 31, 2007; September 7, 2007; Newark Post | The Honorable Christopher Coons, County Executive, New Castle County, 87 Reads Way Corporate Commons, New Castle, DE 19801 | December 7, 2007 | 105085
Georgia:
Columbia | Unincorporated areas of Columbia County (07-04-1277P) | July 18, 2007; July 25, 2007; Columbia County News-Times | The Honorable Ron C. Cross, Chairman, Columbia County Board of Commissioners, P.O. Box 498, Evans, GA 30809 | October 24, 2007 | 130059
Columbia | Unincorporated areas of Columbia County (07-04-1923P) | July 18, 2007; July 25, 2007; Columbia County News-Times | The Honorable Ron Cross, Chairman, Columbia County Board of Commissioners, 908 Nerium Trail, Evans, GA 30809 | October 24, 2007 | 130059
Gwinnett | Unincorporated areas of Gwinnett County (07-04-3457P) | August 16, 2007; August 23, 2007; Gwinnett Daily Post | The Honorable Charles Bannister, Chairman, Gwinnett County Board of Commissioners, 75 Langley Drive, Lawrenceville, GA 30045 | November 22, 2007 | 130322
Illinois:
De Kalb | City of De Kalb (05-05-2302P) | July 19, 2007; July 26, 2007; The Daily Chronicle | The Honorable Frank Van Buer, Mayor, City of De Kalb, 200 South Fourth Street, Room 203, De Kalb, IL 60115 | October 25, 2007 | 170182
Kansas:
Johnson | City of Overland Park (07-07-0902P) | July 19, 2007; July 26, 2007; Johnson County Sun | The Honorable Carl R. Gerlach, Mayor, City of Overland Park, City Hall, 8500 Santa Fe Drive, Overland Park, KS 66212 | June 29, 2007 | 200174
Johnson | Unincorporated areas of Johnson County (07-07-0902P) | July 19, 2007; July 26, 2007; Johnson County Sun | The Honorable Annabeth Surbaugh, Chairman, Johnson County Board of Commissioners, 111 South Cherry Street, Suite 3300, Olathe, KS 66061-3441 | June 29, 2007 | 200159
Johnson | Unincorporated areas of Johnson County (07-07-1220P) | July 19, 2007; July 26, 2007; Johnson County Sun | The Honorable Carl Gerlach, Mayor, City of Overland Park, City Hall, 8500 Santa Fe Drive, Overland Park, KS 66212 | June 25, 2007 | 200174
Kentucky:
Oldham | City of Crestwood (07-04-1746P) | August 16, 2007; August 23, 2007; The Oldham Era | The Honorable Dennis L. Deibel, Mayor, City of Crestwood, P.O. Box 186, Crestwood, KY 40014 | November 22, 2007 | 210027
Oldham | Unincorporated areas of Oldham County (07-04-1746P) | August 16, 2007; August 23, 2007; The Oldham Era | The Honorable Duane Murner, Oldham County Judge/Executive, 100 West Jefferson Street, LaGrange, KY 40031 | November 22, 2007 | 210185
Maine:
Knox | City of Rockland (07-01-0484P) | July 19, 2007; July 26, 2007; The Courier-Gazette | The Honorable Brian Harden, Mayor, City of Rockland, 270 Pleasant Street, Rockland, ME 04841 | June 25, 2007 | 230076
Lincoln | Town of South Bristol (07-01-0772P) | August 16, 2007; August 23, 2007; The Lincoln County News | The Honorable Kenneth Lincoln, Chairman of Selectmen, Town of South Bristol, 470 Clarks Cove Road, South Bristol, ME 04573 | July 31, 2007 | 230220
York | Town of Kittery (07-01-0122P) | June 14, 2007; June 21, 2007; York County Coast Star | The Honorable Glenn Shwaery, Chair, Kittery Town Council, 200 Rogers Road, Kittery, ME 03904 | July 19, 2007 | 230171
Maryland:
Anne Arundel | Unincorporated areas of Anne Arundel County (07-03-0081P) | August 23, 2007; August 30, 2007; The Capital | The Honorable John R. Leopold, County Executive, Anne Arundel County, 44 Calvert Street, Annapolis, MD 21404 | November 29, 2007 | 240008
Frederick | Unincorporated areas of Frederick County (07-03-0394P) | August 16, 2007; August 23, 2007; The Frederick News-Post | The Honorable John L. Thompson, Jr., Commissioner, County of Frederick, Winchester Hall, 12 East Church Street, Frederick, MD 21701 | November 22, 2007 | 240027
Massachusetts:
Barnstable | Town of Falmouth (07-01-1028P) | August 23, 2007; August 30, 2007; Cape Cod Times | The Honorable Kevin Murphy, Chairman, Falmouth Board of Selectmen, Falmouth Town Hall, 59 Town Hall Square, Falmouth, MA 02540 | November 29, 2007 | 255211
Michigan:
Macomb | Charter Township of Clinton (07-05-2289P) | July 20, 2007; July 27, 2007; Macomb County Legal News | The Honorable Robert J. Cannon, Township Supervisor, Charter Township of Clinton, 40700 Romeo Plank Road, Clinton Township, MI 48038 | July 6, 2007 | 260121
Oakland | City of Rochester Hills (06-05-BQ14P) | July 13, 2007; July 20, 2007; Oakland County Legal News | The Honorable James Rosen, Mayor, City of Rochester Hills, 1000 Rochester Hills Drive, Rochester Hills, MI 48309 | June 19, 2007 | 260471
Minnesota:
Marshall | City of Warren (07-05-1900P) | July 19, 2007; July 26, 2007; Messenger | The Honorable Bob Kliner, Mayor, City of Warren, 120 East Bridge Avenue, Warren, MN 56762 | June 27, 2007 | 270274
Marshall | Unincorporated areas of Marshall County (07-05-1900P) | July 19, 2007; July 26, 2007; Messenger | The Honorable Sharon Bring, Chairman, Marshall County Board of Commissioners, County Courthouse, 208 East Colvin Avenue, Warren, MN 56762-1693 | October 25, 2007 | 270638
Missouri:
St. Charles | City of Dardenne Prairie (07-07-0177P) | August 15, 2007; August 22, 2007; St. Charles Journal | The Honorable Pam Fogarty, Mayor, City of Dardenne Prairie, 7137 Scotland Drive, Dardenne Prairie, MO 63368 | November 21, 2007 | 290899
St. Charles | City of O'Fallon (07-07-0177P) | August 15, 2007; August 22, 2007; St. Charles Journal | The Honorable Donna Morrow, Mayor, City of O'Fallon, 633 Hawk Run Drive, O'Fallon, MO 63366 | November 21, 2007 | 290316
St. Charles | Unincorporated areas of St. Charles County (07-07-0177P) | August 15, 2007; August 22, 2007; St. Charles Journal | The Honorable Steve Ehlmann, County Executive, St. Charles County, 201 North Second Street, St. Charles, MO 63301 | November 21, 2007 | 290315
St. Louis | City of Chesterfield (06-07-BA27P) | August 2, 2007; August 9, 2007; The St. Louis Daily Record | The Honorable John Nations, Mayor, City of Chesterfield, Chesterfield City Hall, 690 Chesterfield Parkway West, Chesterfield, MO 63017-0760 | November 8, 2007 | 290896
St. Louis | City of Maryland Heights (06-07-B058P) | July 12, 2007; July 19, 2007; The St. Louis Daily Record | The Honorable Mike Moeller, Mayor, City of Maryland Heights, 212 Millwell Drive, Maryland Heights, MO 63043 | August 23, 2007 | 290889
New Jersey:
Passaic | Township of Little Falls (07-02-1082X) | August 9, 2007; August 16, 2007; The Record | The Honorable Eugene Kulick, Mayor, Township of Little Falls, Township Government Offices, 225 Main Street, Little Falls, NJ 07424 | November 15, 2007 | 340401
Passaic | Borough of West Paterson (07-02-1082X) | August 9, 2007; August 16, 2007; The Record | The Honorable Pat Lapore, Mayor, Borough of West Paterson, Municipal Building, Five Brophy Lane, West Paterson, NJ 07424 | November 15, 2007 | 340412
New Mexico:
Bernalillo | City of Albuquerque (07-06-1930P) | August 2, 2007; August 9, 2007; The Albuquerque Journal | The Honorable Martin J. Chavez, Mayor, City of Albuquerque, P.O. Box 1293, Albuquerque, NM 87103 | July 24, 2007 | 350002
Bernalillo | Unincorporated areas of Bernalillo County (07-06-1930P) | August 2, 2007; August 9, 2007; The Albuquerque Journal | Mr. Thaddeus Lucero, County Manager, Bernalillo County, One Civic Plaza Northwest, Albuquerque, NM 87102 | July 24, 2007 | 350001
Ohio: Montgomery | City of Brookville (07-05-1072P) | July 28, 2007; August 4, 2007; Centerville-Bellbrook Times | The Honorable David E. Seagraves, Mayor, City of Brookville, P.O. Box 10, Brookville, OH 45309 | November 5, 2007 | 390407
Oklahoma: Cleveland | City of Moore (07-06-1613P) | August 30, 2007; September 6, 2007; The Norman Transcript | The Honorable Glenn Lewis, Mayor, City of Moore, 301 North Broadway, Moore, OK 73160 | December 6, 2007 | 400044
Pennsylvania: Berks | Township of Lower Heidelberg (07-03-0867X) | July 12, 2007; July 19, 2007; Readling Eagle | The Honorable R. David Seip, Chairman, Board of Supervisors, Lower Heidelberg Township, Township Offices, 720 Brownsville Road, Sinking Spring, PA 19608 | October 18, 2007 | 421077
Tennessee: Rutherford | City of Murfreesboro (06-04-C283P) | April 26, 2007; May 3, 2007; Daily News Journal | The Honorable Tommy Bragg, Mayor, City of Murfreesboro, 111 West Vine Street, Murfreesboro, TN 37130 | August 2, 2007 | 470168
Texas:
Bexar | City of San Antonio (06-06-BF16P) | August 16, 2007; August 23, 2007; Daily Commercial Recorder | The Honorable Phil Hardberger, Mayor, City of San Antonio, P.O. Box 839966, San Antonio, TX 78283 | November 22, 2007 | 480045
Bexar | Unincorporated areas of Bexar County (06-06-BF16P) | August 16, 2007; August 23, 2007; Daily Commercial Recorder | The Honorable Nelson W. Wolff, Bexar County Judge, Bexar County Courthouse 233 North Pecos, Suite 420, San Antonio, TX 78207 | November 22, 2007 | 480035
Collin | City of Allen (06-06-BK36P) | August 23, 2007; August 30, 2007; The Allen American | The Honorable Stephen Terrell, Mayor, City of Allen, 305 Century Parkway, Allen, TX 75013 | November 29, 2007 | 480131
Collin | City of McKinney (06-06-BH77P) | August 16, 2007; August 23, 2007; McKinney Courier-Gazette | The Honorable Bill Whitfield, Mayor, City of McKinney, 222 North Tennessee, McKinney, TX 75069 | August 27, 2007 | 480135
Collin | City of Plano (07-06-0841P) | July 5, 2007; July 12, 2007; Plano Star Courier | The Honorable Pat Evans, Mayor, City of Plano, 1520 Avenue K, Plano, TX 75074 | October 11, 2007 | 480140
Collin | City of Wylie (07-06-0948P) | July 25, 2007; August 1, 2007; The Wylie News | The Honorable John Mondy, Mayor, City of Wylie, 2000 State Highway 78 North, Wylie, TX 75098 | June 28, 2007 | 480759
Comal | Unincorporated areas of Comal County (07-06-0880P) | July 19, 2007; July 26, 2007; New Braunfels Herald-Zeitung | The Honorable Danny Scheel, Comal County Judge, 199 Main Plaza, New Braunfels, TX 78130 | October 26, 2007 | 485463
Denton | City of Denton (07-06-0913P) | July 19, 2007; July 26, 2007; Denton Record-Chronicle | The Honorable Perry McNeill, Mayor, City of Denton, 215 East McKinney Street, Denton, TX 76201 | October 25, 2007 | 480194
El Paso | City of El Paso (06-06-B807P) | August 23, 2007; August 30, 2007; El Paso Times | The Honorable John Cook, Mayor, City of El Paso, City Hall, 10th Floor, Two Civic Center Plaza, El Paso, TX 79901 | August 6, 2007 | 480214
Harris | City of Houston (06-06-BG37P) | July 19, 2007; July 26, 2007; Houston Chronicle | The Honorable Bill White, Mayor, City of Houston, P.O. Box 1562, Houston, TX 77251 | July 30, 2007 | 480296
Medina | Unincorporated areas of Medina County (07-06-0574P) | July 19, 2007; July 26, 2007; Hondo Anvil Herald | The Honorable James E. Barden, Medina County Judge, Medina County Courthouse, 1100 16th Street, Room 101, Hondo, TX 78861 | June 29, 2007 | 480472
Palo Pinto | City of Mineral Wells (07-06-0680P) | July 19, 2007; July 26, 2007; Mineral Wells Index | The Honorable Clarence Holliman, Mayor, City of Mineral Wells, 115 Southwest First Street, Mineral Wells, TX 76068 | October 25, 2007 | 480517
Parker | Town of Annetta North (07-06-0630P) | August 23, 2007; August 30, 2007; Weatherford Democrat | The Honorable Ken Hall, Mayor, Town of Annetta North, P.O. Box 1238, Aledo, TX 76008 | November 29, 2007 | 481664
Parker | Unincorporated areas of Parker County (07-06-0630P) | August 23, 2007; August 30, 2007; Weatherford Democrat | The Honorable Mark Riley, Parker County Judge, Parker County Courthouse, One Courthouse Square, Weatherford, TX 76086 | November 29, 2007 | 480520
Tarrant | City of Benbrook (07-06-1470X) | May 24, 2007; May 31, 2007; Benbrook News | The Honorable Jerry Dittrich, Mayor, City of Benbrook, 911 Winscott Road, Benbrook, TX 76126 | August 30, 2007 | 480586
Tarrant | City of Fort Worth (07-06-1275P) | August 16, 2007; August 23, 2007; Fort Worth Star-Telegram | The Honorable Mike J. Moncrief, Mayor, City of Fort Worth, 1000 Throckmorton St., Fort Worth, TX 76102 | November 22, 2007 | 480596
Tarrant | City of Keller (07-06-0822P) | July 20, 2007; July 22, 2007; The Southlake Journal | The Honorable Pat McGrail, Mayor, City of Keller, P.O. Box 770, Keller, TX 76244 | June 29, 2007 | 480602
Tarrant | City of Southlake (07-06-0822P) | July 20, 2007; July 27, 2007; The Southlake Journal | The Honorable Andy Wambsganss, Mayor, City of Southlake, 1400 Main Street, Southlake, TX 76092 | June 29, 2007 | 480612
Utah: Salt Lake | City of West Jordan (07-08-0330P) | August 9, 2007; August 16, 2007; Salt Lake Tribune | The Honorable David B. Newton, Mayor, City of West Jordan, 2555 West Carson Lane, West Jordan, UT 84084 | July 20, 2007 | 490108
Wisconsin:
La Crosse | City of La Crosse (07-05-2077P) | July 19, 2007; July 26, 2007; The La Crosse Tribune | The Honorable Mark Johnsrud, Mayor, City of La Crosse, City Hall, 400 La Crosse Street, La Crosse, WI 54601 | June 29, 2007 | 555562
Racine | Unincorporated areas of Racine County (07-05-1468P) | July 19, 2007; July 26, 2007; Journal Times | The Honorable William L. McReynolds, Racine County Executive, 730 Wisconsin Avenue, 10th Floor, Racine, WI 53403 | June 25, 2007 | 550347
Virginia: Roanoke | City of Roanoke (07-03-0789P) | August 16, 2007; August 23, 2007; The Roanoke Times | The Honorable C. N. Harris, Mayor, City of Roanoke, 215 Church Avenue Southwest, Room 452, Roanoke, VA 24011 | September 29, 2007 | 510130

(Catalog of Federal Domestic Assistance No. 97.022, “Flood Insurance.”)

Dated: October 1, 2007.
David I. Maurstad,
Federal Insurance Administrator of the National Flood Insurance Program, Department of Homeland Security, Federal Emergency Management Agency.

[FR Doc. E7-19840 Filed 10-5-07; 8:45 am]

BILLING CODE 9110-12-P